DEPARTMENT OF EDUCATION

Service Contract Inventory for Fiscal Year (FY) 2022

AGENCY: Office of Finance and Operations, Department of Education.

ACTION: Notice of availability—FY 2022 service contract inventory.

SUMMARY: Through this notice, the Secretary announces the availability of the Department of Education's service contract inventory for FY 2022 on its website at www2.ed.gov/fund/data/report/contracts/servicecontractinventoryappendix/servicecontractinventory.html. A service contract inventory is a tool for assisting the agency in better understanding how contracted services are being used to support mission and operations and whether contract labor is being utilized in an appropriate and effective manner.

FOR FURTHER INFORMATION CONTACT: Nathan Watters, U.S. Department of Education, Office of Finance and Operations, 400 Maryland Avenue SW, Washington, DC 20202. Telephone: (202) 245-6942. Email: Nathan.Watters@ed.gov.

If you are deaf, hard of hearing, or have a speech disability and wish to access telecommunications relay services, please dial 7-1-1.

SUPPLEMENTARY INFORMATION: Section 743 of Division C of the Consolidated Appropriations Act of 2010, Public Law 111-117, requires civilian agencies other than the Department of Defense, that are required to submit an inventory in accordance with the Federal Activities Inventory Reform Act of 1998 (Pub. L. 105-270, 31 U.S.C. 501 note) to submit their inventories to the Office of Federal Procurement Policy in the Office of Management and Budget. In addition, section 743 requires these agencies, which include the Department of Education, to (1) make the inventory available to the public, and (2) publish in the Federal Register a notice announcing that the inventory is available to the public along with the name, telephone number, and email address of the agency point of contact.

Through this notice, the Department announces the availability of its inventory for FY 2022 on the following website: www2.ed.gov/fund/data/report/contracts/servicecontractinventoryappendix/servicecontractinventory.html. The point of contact is provided under FOR FURTHER INFORMATION CONTACT.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department, published in the Federal Register in text or Portable Document Format (PDF). To use PDF, you must have Adobe Acrobat Reader, which is available free at the site.

You may also access documents of the Department published in the Federal Register by using the article search feature at www.federalregister.gov. Specifically, through the advanced search feature at this site, you can limit your search to documents published by the Department.

Richard J. Lucas,
Principal Deputy Assistant Secretary, Delegated the Authority to Perform the Duties and Functions of the Office of Finance and Operations Assistant Secretary.

[FR Doc. 2024-12190 Filed 6-3-24; 8:45 am]

BILLING CODE 4000-01-P